DEPARTMENT OF DEFENSE

Department of the Navy

Record of Decision for the U.S. Marine Corps Basewide Water Infrastructure Project at Marine Corps Base Camp Pendleton, California

AGENCY: Department of the Navy, DoD.

ACTION: Notice of record of decision.

SUMMARY: Pursuant to Section 102(2)(c) of the National Environmental Policy Act (NEPA) of 1969, 42 United States Code (U.S.C.) Section 4332(2)(c), the regulations of the Council on Environmental Quality for Implementing the Procedural Provisions of NEPA (40 Code of Federal Regulations [CFR] parts 1500-1508), the Department of the Navy (DoN) NEPA regulations (32 CFR part 775), and the Marine Corps Environmental Compliance and Protection Manual (Marine Corps Order P5090.2A, Change 2), the DoN announces its decision to upgrade and improve the Basewide water infrastructure at Marine Corps Base Camp Pendleton, California (MCBCP). More specifically, the DoN has decided to implement Alternative 5, the Preferred Alternative of the Basewide Water Infrastructure Improvements Final Environmental Impact Statement (EIS), which entails two separate projects to construct, operate, and maintain water infrastructure upgrades, expansions, and improvements at MCBCP. These potable water infrastructure improvements will include construction, operation, and maintenance of a new Northern Advanced Water Treatment plant and associated facilities, an effluent discharge system, and connection of the MCBCP northern and southern water systems. All practical means to avoid or minimize environmental impacts resulting from implementation of the Preferred Alternative have been adopted.

SUPPLEMENTARY INFORMATION: The complete text of the Record of Decision is available for public viewing on the project Web site at http://www.marines.mil/unit/basecamppendleton/Pages/BaseStaffandAgencies/Environmental/EAEIS/Home.aspx along with the Final Environmental Impact Statement (EIS). For further information, contact Mr. Jesse Martinez, EIS Project Manager, 1220 Pacific Highway, San Diego, California 92132-5190, 619-532-3844 or jesse.w.martinez1@navy.mil.

Dated: September 25, 2012.
D.G. Zimmerman,
Lieutenant Commander, Office of the Judge Advocate General, U.S. Navy, Federal Register Liaison Officer.

[FR Doc. 2012-24481 Filed 10-3-12; 8:45 am]

BILLING CODE 3810-FF-P